DEPARTMENT OF COMMERCE

National Oceanic and Atmospheric Administration

RIN 0648-XC598

Endangered and Threatened Species; Draft Recovery Plan for Staghorn and Elkhorn Corals

AGENCY: National Marine Fisheries Service, National Oceanic and Atmospheric Administration, Commerce.

ACTION: Notice of availability; request for comments.

SUMMARY: The National Marine Fisheries Service (NMFS) announces the availability for public review of the draft Recovery Plan (Plan) for elkhorn coral (Acropora palmata) and staghorn coral (Acropora cervicornis). The Plan is available on the NMFS Web site at http://www.nmfs.noaa.gov/pr/recovery/plans.htm and the Southeast Regional Office Web site at http://sero.nmfs.noaa.gov/protected_resources/coral/elkhorn_coral/document/Key_Docs/DraftAcroporaRecoveryPlan.pdf. NMFS is soliciting review and comment from the public and all interested parties on the draft Plan, and NMFS will consider all relevant, substantive comments received during the review period before finalizing the Plan.

DATES: Comments on the draft Plan must be received by close of business on October 20, 2014.

ADDRESSES: You may submit comments on this document, identified by NOAA-NMFS-2014-0110, by any of the following methods:

• Electronic Submissions: Submit all electronic public comments via the Federal e-Rulemaking Portal www.regulations.gov. To submit comments via the e-Rulemaking Portal, first click the “submit a comment” icon, then enter NOAA-NMFS-2014-0110 in the keyword search. Locate the document you wish to comment on from the resulting list and click on the “Submit a Comment” icon on the right of that line.

• Mail: Assistant Regional Administrator for Protected Resources, NMFS, Southeast Regional Office, 263 13th Avenue South, St. Petersburg, FL 33701. Attn: Draft Acropora Recovery Plan.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Alison Moulding (727-824-5312), email Alison.Moulding@noaa.gov or Therese Conant (301-427-8456), email Therese.Conant@noaa.gov.

SUPPLEMENTARY INFORMATION:

Background

Recovery plans describe actions beneficial for the conservation and recovery of species listed under the Endangered Species Act of 1973 (ESA), as amended (16 U.S.C. 1531 et seq.). Section 4(f)(1) of the ESA requires that recovery plans incorporate, to the maximum extent practicable: (1) Objective, measurable criteria which, when met, would result in a determination that the species is no longer threatened or endangered; (2) site-specific management actions necessary to achieve the Plan's goals; and (3) estimates of the time required and costs to implement recovery actions. The ESA requires the development of recovery plans for each listed species unless such a plan would not promote its conservation.

The purpose of this draft Plan is to rebuild and assure the long-term viability of elkhorn and staghorn coral populations in the wild, allowing ultimately for the species' removal from the federal list of endangered and threatened species. The goal of this Plan is to increase the abundance and to protect the genetic diversity of elkhorn and staghorn coral populations throughout their geographical ranges while sufficiently abating threats to warrant delisting of both species. Elkhorn and staghorn coral populations should be large enough to include numerous groups of successfully reproducing individuals, including thickets, across the historical range of these species. These groups should be large enough to protect genetic diversity and maintain ecosystem function. The proposed recovery approach includes research and monitoring to identify, reduce, or eliminate threats so the recovery objectives outlined in this Plan have the greatest likelihood of being achieved. Because some threats to elkhorn and staghorn corals cannot be directly managed (e.g., disease), the Plan pursues concurrent actions to address both global and local threats. Population enhancement is also an integral part of elkhorn and staghorn recovery through restoration, restocking, and active management. Ecosystem-level actions are identified to improve habitat quality and restore community structure and ecological functions, such as herbivory, to sustain adult colonies and enable successful recruitment in the wild over the long term. The goal, objectives, and criteria of the Plan represent NMFS' expectation of conditions to recover elkhorn and staghorn corals so they no longer need the protective measures provided by the ESA; conservation of elkhorn and staghorn species is described in the Plan regardless of their listing as an endangered or threatened species.

The recovery criteria in the draft Plan are based on the current literature and expert consensus. In some cases, the current best available information is so limited that it is not practicable to identify recovery criteria. Instead, interim criteria are identified to gather and obtain the information necessary to establish final recovery criteria. Recovery criteria can be viewed as targets, or values, by which progress toward achievement of recovery objectives can be measured. In the Plan we frame recovery criteria both in terms of population parameters (Population-based Recovery Criteria) and the five ESA listing factors (Threat-based Recovery Criteria). The draft recovery plan also includes the projected timeframe to recover the elkhorn and staghorn corals and the cost of implementing actions.

We believe the draft Plan meets the requirements of the ESA. We solicit written comments on the proposed Recovery Plan and will consider all relevant, substantive comments and information presented during the public comment period in the course of finalizing this Plan. We specifically request any comments or information regarding: (1) The recovery criterion and actions addressing the threats of ocean warming and acidification associated with global climate change resulting from atmospheric greenhouse gas concentrations; and (2) the identification and development of interim criteria.

Authority: 16 U.S.C. 1531 et seq.

Dated: August 29, 2014.
Angela Somma,
Chief, Endangered Species Conservation Division, Office of Protected Resources, National Marine Fisheries Service.

[FR Doc. 2014-21154 Filed 9-4-14; 8:45 am]

BILLING CODE 3510-22-P